DEPARTMENT OF COMMERCE

National Oceanic and Atmospheric Administration

Proposed Information Collection; Comment Request; Alaska Region Gear Identification Requirements

AGENCY: National Oceanic and Atmospheric Administration (NOAA), Commerce.

ACTION: Notice.

SUMMARY: The Department of Commerce, as part of its continuing effort to reduce paperwork and respondent burden, invites the general public and other Federal agencies to comment on proposed and/or continuing information collections, as required by the Paperwork Reduction Act of 1995.

DATES: To ensure consideration, written or on-line comments must be submitted on or before January 13, 2020.

ADDRESSES: Direct all written comments to Adrienne Thomas, PRA Officer, NOAA, 151 Patton Avenue, Room 159, Asheville, NC 28801 (or via the internet at PRAcomments@doc.gov). All comments received are part of the public record. Comments will generally be posted without change. All Personally Identifiable Information (for example, name and address) voluntarily submitted by the commenter may be publicly accessible. Do not submit Confidential Business Information or otherwise sensitive or protected information.

FOR FURTHER INFORMATION CONTACT: Requests for additional information should be directed to Gabrielle Aberle, National Marine Fisheries Service, P.O. Box 21668, Juneau, AK 99802-1668. Telephone (907) 586-7228.

SUPPLEMENTARY INFORMATION:

I. Abstract

This request is for extension of a currently approved information collection.

Regulations pertaining to gear markings are set forth at 50 CFR part 679 and in the annual management measures published in the Federal Register pursuant to 50 CFR 300.62. This information collection contains the following gear identification requirements for participants in the groundfish fisheries in the Exclusive Economic Zone off Alaska and for vessels using longline pot gear to fish for individual fishing quota (IFQ) sablefish in the Gulf of Alaska (GOA).

Marker Buoys

All hook-and line, longline pot, and pot-and-line marker buoys carried on board or used by any vessel regulated under 50 CFR part 679 must be marked with the vessel's Federal Fisheries Permit number or Alaska Department of Fish and Game vessel registration number. Regulations that marker buoys be marked with identification information are essential to facilitate fisheries enforcement and actions concerning damage, loss, and civil proceedings. The ability to link fishing gear to the vessel owner or operator is crucial to enforcement of regulations.

Longline Pot Gear Vessel Registration and Tags

A vessel owner using longline pot gear to fish for IFQ sablefish in the GOA must annually register their vessel with the National Marine Fisheries Service (NMFS) and be assigned pot tags for that vessel. Each pot tag is printed with a unique serial number for identification, and is specific to the IFQ regulatory area to which the tag is registered and where the pot gear will be fished. A valid pot tag must be securely attached to each pot used to fish for IFQ sablefish in the GOA.

Vessel owners submit the form “Vessel Registration and Request for IFQ Sablefish Pot Gear Tags” to annually register their vessels and to request new pot tags if a vessel does not have previously issued tags. Tags assigned to a vessel in previous years are valid as long as the tag can be secured to a pot and the serial number is legible. Vessel owners submit the form “Request for Replacement of Longline Pot Gear Tags” if previously issued tags need to be replaced.

NMFS requires all vessel operators using longline pot gear in the GOA sablefish IFQ fishery to complete logbooks (see OMB Control Numbers 0648-0213). When the number of pots deployed by a vessel is self-reported through logbooks, the use of pot tags provides an additional enforcement tool to ensure that the pot limits are not exceeded. The use of pot tags allows at-sea enforcement and post-trip verification of the number of pots fished.

II. Method of Collection

The forms to request pot gear tags and register a vessel are available on the NMFS Alaska Region website at https://www.fisheries.noaa.gov/region/alaska as fillable PDFs and may be downloaded and printed. These forms are submitted to NMFS by mail, fax, or delivery. Marker buoys are marked with identification information.

III. Data

OMB Control Number: 0648-0353.

Form Number(s): None.

Type of Review: Regular submission (extension of a current information collection).

Affected Public: Individuals or households; Business or other for-profit organizations.

Estimated Number of Respondents: 988.

Estimated Time per Response: Marking longline pot gear marker buoys, 15 minutes per buoy; marking groundfish hook-and-line marker buoys, 10 minutes per buoy; 15 minutes each for the Vessel Registration and Request for IFQ Sablefish Pot Gear Tags form and for the Request for Replacement of Longline Pot Gear Tags form. These estimates are based on the most recent supporting statement prepared for this information collection in 2017. This supporting statement is available on NOAA's Paperwork Reduction Act web page at https://www.cio.noaa.gov/itmanagement/pdfs/0353ext2017.pdf.

Estimated Total Annual Burden Hours: 1,841 hours.

Estimated Total Annual Cost to Public: $11,310 in recordkeeping and reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer, Commerce Department.

[FR Doc. 2019-24578 Filed 11-12-19; 8:45 am]

BILLING CODE 3510-22-P